DEPARTMENT OF ENERGY

Federal Energy Regulatory Commission

[Docket Nos. CP21-1-000; CP21-458-000]

Golden Pass Pipeline, LLC; Notice of Availability of the Final Environmental Impact Statement for the Proposed Mp66-69 Compressor Relocation and Modification Amendment and the Mp33 Compressor Station Modification Amendment Project

The staff of the Federal Energy Regulatory Commission (FERC or Commission) has prepared a final environmental impact statement (EIS) for the MP66-69 Compression Relocation and Modification Amendment and the MP33 Compressor Station Modification Amendment Project (Project), proposed by Golden Pass Pipeline, LLC (Golden Pass), in the above referenced dockets. Golden Pass requests authorization to amend its certificate of public convenience and necessity for the Pipeline Expansion Project (Docket No. CP14-518-000) that was issued by the Commission on December 21, 2016. Golden Pass requests authorization to modify the previously authorized facilities in Calcasieu Parish, Louisiana and Orange County, Texas.

The final EIS assesses the potential environmental effects of the construction and operation of the Project in accordance with the requirements of the National Environmental Policy Act (NEPA). The FERC staff concludes that approval of the proposed Project, with the mitigation measures recommended in this EIS, would not result in significant environmental impacts, with the exception of climate change impacts. The EIS does not characterize the Project's greenhouse gas emissions as significant or insignificant because the Commission is conducting a generic proceeding to determine whether and how the Commission will conduct climate change significance determinations going forward.¹

¹ Consideration of Greenhouse Gas Emissions in Natural Gas Infrastructure Project Reviews, 178 FERC ¶ 61,108 (2022); 178 FERC ¶ 61,197 (2022).

The final EIS incorporates by reference the Commission staff's July 2016 Final Environmental Impact Statement (FEIS) issued in Docket Nos. CP14-517-000 and CP14-518-000 for the Golden Pass LNG Export Project (2016 FEIS) and the Commission's findings and conclusions in its December 21, 2016 Order. The final EIS addresses the potential environmental effects of the construction and operation of the following Project facilities:

CP21-1-000 (Calcasieu Parish, Louisiana)

• relocate the approved Compressor Station at Milepost (MP) 66 approximately three miles, to MP69;

• increase the amount of compression at the relocated compressor station;

• eliminate approved modifications to interconnects at MP63 and MP66;

• minor changes to approved interconnect modifications at MP68; and

• eliminate the previously approved 3 miles of 24-inch-diameter pipeline loop between MP66 and MP69.

CP21-458-000 (Orange County, Texas)

• relocate the MP33 Compressor Station approximately fifty feet north-northwest to avoid an existing pipeline right-of-way based on a landowner request;

• increase the authorized compression at the MP33 Compressor Station;

• construct three new interconnects and appurtenant facilities adjacent to the MP33 Compressor Station; and

• eliminate receipt stations at the existing Texoma delivery interconnect on Golden Pass's existing system at MP33.

The Commission mailed a copy of the Notice of Availability of the Final Environmental Impact Statement for the MP66-69 Compression Relocation and Modification Amendment and the MP33 Compressor Station Modification Amendment Project to federal, state, and local government representatives and agencies; elected officials; environmental and public interest groups; Native American tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e. CP21-1-000 or CP21-458-000). Be sure you have selected an appropriate date range. For assistance, please contact FERC Online Support at FercOnlineSupport@ferc.gov or toll free at (866) 208-3676, or for TTY, contact (202) 502-8659.

The final EIS is not a decision document. It presents Commission staff's independent analysis of the environmental issues for the Commission to consider when addressing the merits of all issues in this proceeding.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: June 24, 2022.
Debbie-Anne A. Reese,
Deputy Secretary.

[FR Doc. 2022-14014 Filed 6-29-22; 8:45 am]

BILLING CODE 6717-01-P